DEPARTMENT OF THE INTERIOR

Fish and Wildlife Service

50 CFR Part 10

[Docket No. FWS-HQ-BPHR-2014-0028; FXGO16600954000-134-FF09B30000]

RIN 1018-BA52

Addresses of Headquarters Offices

AGENCY: Fish and Wildlife Service, Interior.

ACTION: Final rule; technical amendment.

SUMMARY: On July 29, 2014, the U.S. Fish and Wildlife Service (we) published a final rule to update the addresses of our headquarters offices in our regulations. We inadvertently omitted two necessary address changes. We make those changes in this document.

DATES: Effective May 8, 2015.

FOR FURTHER INFORMATION CONTACT: Anissa Craghead, 703-358-2445.

SUPPLEMENTARY INFORMATION: We relocated our headquarters offices from Arlington, Virginia, to Falls Church, Virginia, on July 28, 2014. To ensure regulated entities and the general public have accurate contact information for the Service's offices, on July 29, 2014, we published a final rule (79 FR 43961) to update our headquarters addresses throughout our regulations. We inadvertently omitted two necessary address changes in the regulations at 50 CFR 10.21. We make those changes in this document.

List of Subjects in 50 CFR Part 10

Exports, Fish, Imports, Law enforcement, Plants, Transportation, Wildlife.

Regulation Promulgation

Accordingly, we amend part 10 of subchapter A of chapter I, title 50 of the Code of Federal Regulations, as set forth below:

PART 10—GENERAL PROVISIONS

1. The authority citation for part 10 continues to read as follows:

Authority: 16 U.S.C. 668a-d, 703-712, 742a-j-l, 1361-1384, 1401-1407, 1531-1543, 3371-3378; 18 U.S.C. 42; 19 U.S.C. 1202.

2. Amend § 10.21 by revising paragraph (a) and the first sentence of paragraph (b) to read as follows:

§ 10.21 Director.

(a) Mail forwarded to the Director for law enforcement purposes should be addressed to Chief, Office of Law Enforcement, at the address provided at 50 CFR 2.1(b).

(b) Mail sent to the Director regarding permits for the Convention on International Trade in Endangered Species of Wild Fauna and Fauna (CITES), injurious wildlife, Wild Bird Conservation Act species, international movement of all ESA-listed endangered or threatened species, and scientific research on, exhibition of, or interstate commerce in nonnative ESA-listed endangered and threatened species should be addressed to: Director, U.S. Fish and Wildlife Service, (Attention: Division of Management Authority), at the address provided for the Division of Management Authority at 50 CFR 2.1(b). * * *

Dated: May 4, 2015.
Tina A. Campbell,
Chief, Division of Policy, Performance, and Management Programs, U.S. Fish and Wildlife Service.

[FR Doc. 2015-11084 Filed 5-7-15; 8:45 am]

BILLING CODE 4310-55-P